EQUAL EMPLOYMENT OPPORTUNITY COMMISSION

Agency Information Collection Activities: Submission for OMB Review; Final Comment Request

AGENCY: Equal Employment Opportunity Commission.

ACTION: Final Notice of Submission for OMB Review Employer Information Report (EEO-1).

SUMMARY: In accordance with the Paperwork Reduction act of 1995, the Equal Employment Opportunity Commission (EEOC) announces that it is submitting to the Office of Management and Budget (OMB) a request for a one-year extension of the existing collection as described below. A notice that the EEOC would be submitting this request was published in the Federal Register on September 9, 2002, allowing for a 60-day public comment period. Four comments were received.

DATES: Written comments on this notice must be submitted on or before December 30, 2002.

ADDRESSES: Comments should be submitted to Karen Lee, Policy Analyst, Office of Information and Regulatory Affairs, Office of Management and Budget, 725 17th Street, NW., Washington, DC 20503, or e-mail at KFLEE@OMB.EOP.GOV. Comments may also be sent to Frances M. Hart, Executive Officer, Executive Secretariat, Equal Employment Opportunity Commission, 10th Floor, 1801 L Street, NW., Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittal will not be acknowledged, except that the sender may request confirmation of receipt by calling the Executive Secretariat staff at (202) 663-4070 (voice) or (202) 663-4074 (TDD). (These are not toll-free telephone numbers.) Copies of comments submitted by the public will be available for review at the Commission's library, Room 6502, 1801 L Street, NW., Washington, DC 20507 between the hours of 9:30 a.m. and 5 p.m.

FOR FURTHER INFORMATION CONTACT: Joachim Neckere, Director, Program Research and Surveys Division, 1801 L Street, NW., Room 9222, Washington, DC 20507: (202) 663-4958 (voice) or (202) 663-7063 (TDD).

SUPPLEMENTARY INFORMATION: The Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Four comments were received from associations of employers and human resources organizations in response to the September 9, 2002 notice. The comments supported the EEOC's request for a one-year extension of the current information collection.

Overview of This Information Collection

Collection Title: Employer Information Report (EEO-1).

OMB Number: OMB Number 3046-0007.

Frequency of Report: Annual

Type of Respondent: Private employees and certain federal government contractors and first-tier subcontractors with 50 or more employees.

Description of Affected Public: Private industry employers and businesses, private institutions, organizations and farms.

Reporting Hours: 402,700.

Federal Cost: $1.3 million.

Number of Forms: 1.

Abstract: Section 709(c) of the Title VII of the Civil Rights Act of 1964, as amended, 42 U.S.C. 2000e-8(c), requires employers to make and keep records relevant to a determination of whether unlawful employment practices have been or are being committed and to make reports therefrom as required by the EEOC. Accordingly, the EEOC has issued regulations set forth in Title 29, Chapter XIV, Subpart B, § 1602.7. Employers in the private sector with 100 or more employees and some federal contractors with 50 or more employees have been required to submit EEO-1 reports annually since 1966. The individual reports are confidential.

EEO-1 data are used by EEOC to investigate charges of employment discrimination against employers in private industry and to provide information and the employment status of minorities and women. The data are shared with the Office of Federal Contract Compliance Programs (OFCCP), U.S. Department of Labor, and several other federal agencies. Pursuant to Section 709(d) of title VII of the Civil Rights Act of 1964, as amended, EEO-1 data are also shared with 86 State and Local Fair Employment Practices Agencies (FEPAs).

Burden Statement: The estimated number of respondents included in the annual EEO-1 reports survey is 45,000 private employers. The estimated number of responses per respondent is between 3 and 4 EEO-1 reports. The annual number of responses is approximately 170,000 and the total annual burden is 402,700 hours. In order to help reduce survey burden, respondents are encouraged to report data on such electronic media as interactive diskettes or magnetic tapes.

Dated: November 21, 2002.
For the Commission.
Cari M. Dominguez,
Chair.

[FR Doc. 02-30171 Filed 11-27-02; 8:45 am]

BILLING CODE 6570-01-M